DEPARTMENT OF TRANSPORTATION

Office of the Secretary

Notice of Applications for Certificates of Public Convenience and Necessity and Foreign Air Carrier Permits Filed Under Subpart B (Formerly Subpart Q) During the Week Ending July 26, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0125.

Date Filed: July 21, 2014.

Due Date for Answers, Conforming Applications, or Motion to Modify Scope: August 11, 2014.

Description: Application of Primera Air Scandinavia A/S (“Primera Air”) requesting a foreign air carrier permit and exemption authority so that it may exercise the full rights available to EU Member State air carriers pursuant to the Air Transport Agreement between the United States of America and the European Union and its Member States. Primera Air requests rights to engage in: (i) Foreign scheduled and charter air transportation of persons, property and mail from any point or points behind any Member State of the European Union, via any point or points in any Member State and via intermediate points, to any point or points in the United States and beyond; (ii) foreign scheduled and charter air transportation of persons, property and mail between any point or points in the United States and any point or points in any member of the European Common Aviation Area; (iii) foreign scheduled and charter air transportation of cargo between any point or points in the United States and any other point or points; (iv) other charters pursuant to the prior approval requirements; and (v) transportation authorized by any additional route rights made available to European Union carriers under the U.S.-EU Air Transport Agreement in the future.

Barbara J. Hairston,
Supervisory Dockets Officer, Docket Operations, Federal Register Liaison .

[FR Doc. 2014-19033 Filed 8-11-14; 8:45 am]

BILLING CODE 4910-9X-P